DEPARTMENT OF AGRICULTURE

Forest Service

Lake Tahoe Basin Federal Advisory Committee

AGENCY: Forest Service, USDA.

ACTION: Notice of meeting.

SUMMARY: The Lake Tahoe Basin Federal Advisory Committee will hold a meeting on April 10, 2003, at the Lake Tahoe Basin Management Unit, Forest Service Office, 870 Emerald Bay Rd., Suite 1, South Lake Tahoe, CA. This Committee, established by the Secretary of Agriculture on December 15, 1998, (64 FR 2876) is chartered to provide advice to the Secretary on implementing the terms of the Federal Interagency Partnership on the Lake Tahoe Region and other matters raised by the Secretary.

DATES: The meeting will be held April 10, 2003 beginning at 8:30 a.m. and ending at 10:30 a.m.

ADDRESSES: The meeting will be held at the Lake Tahoe Basin Management Unit, Forest Service Office, 870 Emerald Bay Rd., South Lake Tahoe, CA 96150.

FOR FURTHER INFORMATION CONTACT: Maribeth Gustafson or Jeannie Stafford, Lake Tahoe Basin Management Unit, Forest Service Office, 870 Emerald Bay Road Suite 1, South Lake Tahoe, CA 96150, (530) 573-2642.

SUPPLEMENTARY INFORMATION: The committee will meet jointly with the Lake Tahoe Basin Executives Committee. Items to be covered on the agenda include: Recommendations on the USFS Report to Congress on Urban Intermix Parcel Acquisition and Management in the Lake Tahoe Basin, and public comment. All Lake Tahoe Basin Federal Advisory Committee meetings are open to the public. Interested citizens are encouraged to attend. Issues may be brought to the attention of the Committee during the open public comment period at the meeting or by filing written statements with the secretary for the Committee before or after the meeting. Please refer any written comments to the Lake Tahoe Basin Management Unit at the contact address stated above.

Dated: March 24, 2003.
Maribeth Gustafson,
Forest Supervisor.

[FR Doc. 03-7555 Filed 3-28-03; 8:45 am]

BILLING CODE 3410-11-M